DEPARTMENT OF COMMERCE

National Oceanic and Atmospheric Administration

[RTID 0648-XA746]

North Pacific Fishery Management Council; Public Meeting

AGENCY: National Marine Fisheries Service (NMFS), National Oceanic and Atmospheric Administration (NOAA), Commerce.

ACTION: Notice of a webconference.

SUMMARY: The North Pacific Fishery Management Council (NPFMC) Ecosystem Committee will meet January 26, 2021.

DATES: The meeting will be held on Tuesday, January 26, 2021, from 9 a.m. to 3 p.m., Alaska time.

ADDRESSES: The meeting will be a webconference. Join online through the link at https://meetings.npfmc.org/Meeting/Details/1848.

Council address: North Pacific Fishery Management Council, 1007 W 3rd Ave, Anchorage, AK 99501-2252; telephone: (907) 271-2809. Instructions for attending the meeting are given under SUPPLEMENTARY INFORMATION, below.

FOR FURTHER INFORMATION CONTACT: Steve MacLean, Council staff; phone: (907) 271-2809 and email: steve.maclean@noaa.gov. For technical support please contact administrative Council staff, email: npfmc.admin@noaa.gov.

SUPPLEMENTARY INFORMATION:

Agenda

Tuesday, January 26, 2021

The Ecosystem Committee agenda items include an update on the Bering Sea Fishery Ecosystem Plan and Climate Change Taskforce, the implementation plan for deep-sea coral research in Alaska, Ecosystem-Based Fisheries Management (EBFM) operationalization at the Alaska Fisheries Science Center, best practices to reduce risks of marine invasive species, planning for the Council's next ecosystem workshop, and planning for future ecosystem committee meetings. The agenda is subject to change, and the latest version will be posted at https://meetings.npfmc.org/Meeting/Details/1848 prior to the meeting, along with meeting materials.

Connection Information

You can attend the meeting online using a computer, tablet, or smart phone; or by phone only. Connection information will be posted online at: https://meetings.npfmc.org/Meeting/Details/1848.

Public Comment

Public comment letters will be accepted and should be submitted electronically to https://meetings.npfmc.org/Meeting/Details/1848.

Authority: 16 U.S.C. 1801 et seq.

Dated: January 6, 2021.
Rey Israel Marquez,
Acting Deputy Director, Office of Sustainable Fisheries, National Marine Fisheries Service.

[FR Doc. 2021-00273 Filed 1-8-21; 8:45 am]

BILLING CODE 3510-22-P